ENVIRONMENTAL PROTECTION AGENCY

40 CFR Part 52

Approval and Promulgation of Implementation Plans

CFR Correction

In Title 40 of the Code of Federal Regulations, Part 52 (§§ 52.1019 to 52.2019), revised as of July 1, 2014, on page 649, in § 52.1881, paragraph (b) is removed and reserved.

[FR Doc. 2015-14652 Filed 6-16-15; 8:45 am]

BILLING CODE 1505-01-D